DEPARTMENT OF HOMELAND SECURITY

Federal Emergency Management Agency

44 CFR Part 67

[Docket No. FEMA-B-7740]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding these proposed regulatory flood elevations. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 14, 2008.

ADDRESSES: The corresponding preliminary Flood Insurance Rate Map (FIRM) for the proposed BFEs for each community are available for inspection at the community's map repository. The respective addresses are listed in the table below.

You may submit comments, identified by Docket No. FEMA-B-7740, to William R. Blanton, Jr., Chief, Engineering Management Section, Mitigation Directorate, Federal Emergency Management Agency, 500 C Street, SW., Washington, DC 20472.

FOR FURTHER INFORMATION CONTACT: William R. Blanton, Jr., Chief, Engineering Management Section, Mitigation Directorate, Federal Emergency Management Agency, 500 C Street, SW., Washington, DC 20472.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Randolph County, Illinois, and Incorporated Areas
Kaskaskia River | At confluence with Mississippi River | +395 | +392 | Village of Evansville, Unincorporated Areas of Randolph County.
| Randolph/Monroe County boundary (approximately 700 feet upstream Anna Lane extended) | +395 | +392
Mississippi River | Jackson/Randolph County boundary (approximately Cora Road extended) | +385 | +382 | City of Chester, Unincorporated Areas of Randolph County, Village of Kaskaskia, Village of Prairie Du Rocher, Village of Rockwood.
| Randolph/Monroe County boundary (approximately 3,025 feet downstream of Regtown Road extended) | +404 | +402
*National Geodetic Vertical Datum.
+North American Vertical Datum.
#Depth in feet above ground.
ADDRESSES
City of Chester
Maps are available for inspection at 1330 Swanwick Street, Chester, IL 62233.
Send comments to William R. Blanton, Jr., Chief, Engineering Management Section, Mitigation Directorate, Federal Emergency Management Agency, 500 C Street, SW., Washington, DC 20472.
Unincorporated Areas of Randolph County
Maps are available for inspection at 1 Taylor Street, Zoning Administrator, Chester, IL 62233.
Send comments to William R. Blanton, Jr., Chief, Engineering Management Section, Mitigation Directorate, Federal Emergency Management Agency, 500 C Street, SW., Washington, DC 20472.
Village of Evansville
Maps are available for inspection at 403 Spring Street, P.O. Box 257, Evansville, IL 62242.
Send comments to William R. Blanton, Jr., Chief, Engineering Management Section, Mitigation Directorate, Federal Emergency Management Agency, 500 C Street, SW., Washington, DC 20472.
Village of Kaskaskia
Maps are available for inspection at 1 Taylor Street, Chester, IL 62233.
Send comments to William R. Blanton, Jr., Chief, Engineering Management Section, Mitigation Directorate, Federal Emergency Management Agency, 500 C Street, SW., Washington, DC 20472.
Village of Prairie Du Rocher
Maps are available for inspection at 209 Henry Street, P.O. Box 325, Prairie Du Rocher, IL 62277.
Send comments to William R. Blanton, Jr., Chief, Engineering Management Section, Mitigation Directorate, Federal Emergency Management Agency, 500 C Street, SW., Washington, DC 20472.
Village of Rockwood
Maps are available for inspection at 900 Original Street, Rockwood, IL 62280.
Send comments to William R. Blanton, Jr., Chief, Engineering Management Section, Mitigation Directorate, Federal Emergency Management Agency, 500 C Street, SW., Washington, DC 20472.
Gibson County, Tennessee, and Incorporated Areas
Clear Creek | At the confluence with Wolf Creek | None | +396 | Unincorporated Areas of Gibson County.
| Approximately 2,300 feet upstream of the confluence with Wolf Creek | None | +401 |
Wolf Creek | Approximately 480 feet upstream of State Highway 104 | None | +395 | Unincorporated Areas of Gibson County.
| Approximately 2,211 feet upstream of State Highway 104 | None | +397
*National Geodetic Vertical Datum.
+North American Vertical Datum.
#Depth in feet above ground.
ADDRESSES
Unincorporated Areas of Gibson County
Maps are available for inspection at 309 S. College Street, Trenton, TN 38382.
Send comments to William R. Blanton, Jr., Chief, Engineering Management Section, Mitigation Directorate, Federal Emergency Management Agency, 500 C Street, SW., Washington, DC 20472.
Obion County, Tennessee, and Incorporated Areas
Fifteenth Street Tributary | Approximately 1,740 feet upstream of the confluence with Richland Creek | None | +284 | Unincorporated Areas of Obion County.
| At the confluence with Richland Creek | None | +284
Grove Creek | Approximately 2,070 feet downstream of State Highway 22 | None | +311 | Unincorporated Areas of Obion County.
| Approximately 950 feet downstream of State Highway 22 | None | +313
Hoosier Creek | Approximately 1,950 feet downstream of State Highway 3 | None | +314 | Unincorporated Areas of Obion County.
| Approximately 1,250 feet downstream of State Highway 3 | None | +314
Johnson Hurt Avenue Tributary | At the confluence with Obion River | None | +284 | Unincorporated Areas of Obion County.
| Approximately 1,070 feet upstream of the confluence with Obion River | None | +284
Obion River | Just upstream of State Highway 3 | None | +284 | Unincorporated Areas of Obion County.
| Approximately 2,400 feet upstream of State Highway 211 | None | +284
Drainage Canal | Just upstream of State Highway 3 | None | +284 | Unincorporated Areas of Obion County.
| Approximately 4,280 feet upstream of State Highway 211 | None | +284
Old Obion River Drainage Canal | Just upstream of State Highway 3 | None | +284 | Unincorporated Areas of Obion County.
| Approximately 2,800 feet upstream of State Highway 211 | None | +284
Pursley Creek | Approximately 320 feet upstream of Nailing Drive | None | +323 | Unincorporated Areas of Obion County.
| Approximately 800 feet downstream of State Highway 3 | None | +332
Richland Creek | At the confluence with Obion River | None | +284 | Unincorporated Areas of Obion County.
| Approximately 100 feet downstream of West Palestine Road | None | +284
*National Geodetic Vertical Datum.
+North American Vertical Datum.
#Depth in feet above ground.
ADDRESSES
Unincorporated Areas of Obion County
Maps are available for inspection at County Mayor, P.O. Box 236, Union City, TN 38281.
Send comments to William R. Blanton, Jr., Chief, Engineering Management Section, Mitigation Directorate, Federal Emergency Management Agency, 500 C Street, SW., Washington, DC 20472.
Rhea County, Tennessee, and Incorporated Areas
Little Richland Creek Tributary | At the confluence of Little Richland Creek | None | +695 | City of Dayton, Unincorporated Areas of Rhea County.
| Approximately 210 feet downstream of Back Valley Road | None | +736
*National Geodetic Vertical Datum.
+North American Vertical Datum.
#Depth in feet above ground.
ADDRESSES
City of Dayton
Maps are available for inspection at Dayton City Hall, 399 First Avenue, Dayton, TN 37321.
Send comments to William R. Blanton, Jr., Chief, Engineering Management Section, Mitigation Directorate, Federal Emergency Management Agency, 500 C Street, SW., Washington, DC 20472.
Unincorporated Areas of Rhea County
Maps are available for inspection at Rhea County Property Assessor's Office, 375 Church Street, Suite 100, Dayton, TN 37321.
Send comments to William R. Blanton, Jr., Chief, Engineering Management Section, Mitigation Directorate, Federal Emergency Management Agency, 500 C Street, SW., Washington, DC 20472.
Weakley County, Tennessee, and Incorporated Areas
Cane Creek | Approximately 50 feet upstream of Mount Pelia Road | None | +337 | Unincorporated Areas of Weakley County.
| Approximately 450 feet downstream of the confluence with Cane Creek Tributary | None | +344
Tributary | Just Upstream of Gardener Hyndsver Road | None | +363 | Unincorporated Areas of Weakley County.
| Approximately 70 feet downstream of Old Fulton Road | None | +371
Mud Creek | Just downstream of State Route 22 | None | +365 | City of Dresden.
| Approximately 900 feet upstream of Boydenville Road | None | +402
*National Geodetic Vertical Datum.
+North American Vertical Datum.
#Depth in feet above ground.
ADDRESSES
City of Dresden
Maps are available for inspection at 117 W. Main Street, Dresden, TN 38225.
Send comments to William R. Blanton, Jr., Chief, Engineering Management Section, Mitigation Directorate, Federal Emergency Management Agency, 500 C Street, SW., Washington, DC 20472.
Unincorporated Areas of Weakley County
Maps are available for inspection at 116 W. Main Street, Dresden, TN 38225.
Send comments to William R. Blanton, Jr., Chief, Engineering Management Section, Mitigation Directorate, Federal Emergency Management Agency, 500 C Street, SW., Washington, DC 20472.
Dallas County, Texas, and Incorporated Areas
Bear Creek | Approximately 505 feet upstream of the intersection with S. Belt Line Road | +443 | +446 | City of Desoto, City of Glenn Heights.
| Approximately 548 feet upstream from intersection with N. County Line Road | +475 | +472
Bentle Branch | Approximately 1820 feet downstream from intersection with Joe Wilson Road | +649 | +647 | City of Dallas, City of Cedar Hill, City of Duncanville.
| Approximately 2960 feet upstream from the intersection with Joe Wilson Road | +710 | +711
Cottonwood Creek (of Lake Ray Hubbard) | Approximately 40 feet downstream from intersection with Stonewall Road | +451 | +447 | City of Dallas, City of Garland, City of Richardson, City of Rowlett, City of Wylie, Unincorporated Areas of Dallas County.
| Approximately 1670 feet upstream from intersection with Stonewall Road | +456 | +455
Cottonwood Creek (of White Rock Creek) | Approximately 805 feet upstream from confluence with White Rock Creek | +501 | +502 | City of Dallas, City of Richardson, Unincorporated Areas of Dallas County.
| Approximately 425 feet downstream of intersection with Spring Valley Road | +561 | +563
Estes Branch | Approximately 413 feet downstream from intersection with Bruton Road | +474 | +471 | City of Dallas.
| Approximately 373 feet downstream from intersection with Saint Augustine Drive | +475 | +477
Furneaux Creek | Approximately 1296 feet downstream from intersection with Dickerson Parkway | +453 | +455 | City of Carrollton.
| Approximately 2018 feet upstream from intersection with Dickerson Parkway | +457 | +460
Hatfield Branch | At the intersection with Prairie Creek Road | +404 | +400 | City of Dallas.
| Approximately 4660 feet downstream from intersection with N. Master's Drive | +485 | +482
Hickory Creek | Approximately 920 feet downstream from intersection with S. Woody Road | +400 | +399 | City of Balch Springs, City of Dallas.
| Approximately 410 feet downstream from intersection with Arrowdell Road | +441 | +439
Hutton Branch | Approximately 436 feet downstream from intersection with Denton Drive | +451 | +453 | City of Carrollton, Town of Addison.
| Approximately 920 feet downstream from intersection with Midway Road | +596 | +597
Lake June Branch | Approximately 1530 feet downstream from intersection with Lake June Road | +458 | +455 | City of Dallas.
| Approximately 157 feet downstream from intersection with Frostwood Street | +489 | +491
Long Branch of Duck Creek | Approximately 5710 feet downstream from intersection with Northwest Drive | +461 | +458 | City of Mesquite, City of Dallas, City of Garland.
| Approximately 2230 feet downstream from intersection with Ferguson Road | +522 | +520
North Mesquite Creek | Approximately 2380 feet downstream of intersection with Lawson Road | +381 | +380 | City of Balch Springs, City of Mesquite, Town of Sunnyvale, Unincorporated Areas of Dallas County.
| Approximately 205 feet upstream from intersection with Via Del Nortway | +505 | +507
Pleasant Branch | Approximately 440 feet downstream from intersection with Prairie Creek Road | +465 | +462 | City of Dallas.
| Approximately 273 feet upstream from intersection with Bohannon Drive | +497 | +498
Prairie Creek | Approximately 1510 feet downstream from intersection with LBJ Freeway | +398 | +397 | City of Dallas.
| Approximately 540 feet downstream from intersection with Military Parkway | +503 | +504
Pruitt Branch | Approximately 2423 feet downstream from intersection with Kingsfield Road | +412 | +411 | City of Dallas.
| Approximately 696 feet upstream from intersection with Ryoak Drive | +434 | +435
Richardson Branch | Approximately 540 feet downstream of intersection with Royal Lane | +490 | +491 | City of Dallas.
| At intersection with Windy Crest Drive | +578 | +580
Rylie Branch | Approximately 984 feet downstream from the intersection with Saint Augustine Drive | +412 | +410 | City of Dallas.
| Approximately 1388 feet upstream from intersection with Old Seagoville Road | +452 | +456
South Mesquite Creek | Approximately 2007 feet downstream from intersection with Lawson Road | +384 | +383 | City of Balch Springs, City of Dallas, City of Mesquite.
| Approximately 1905 feet downstream from intersection with Demaret Drive | +548 | +547
Stream 2A4 | At intersection with Oak Hollow Drive | +459 | +461 | City of Rowlett, City of Dallas, Unincorporated Areas of Dallas County.
| Approximately 280 feet upstream from intersection with Oak Hollow Drive | +480 | +477
Stream 2A5 | Approximately 155 feet downstream from intersection with Pecan Lane | +440 | +439 | City of Rowlett, City of Dallas.
| Approximately 200 feet downstream from intersection with Spinnaker Cove | +460 | +464
Stream 2B1 | Approximately 98 feet from the intersection with South Belt Line Road | +427 | +429 | City of Balch Springs.
| Approximately 840 feet downstream from intersection with Eastgate Drive | +463 | +464
Stream 2B2 | Approximately 150 feet upstream from intersection with Burton Road | +432 | +434 | City of Mesquite.
| Approximately 880 feet upstream from intersection with I-635 | +448 | +450
Stream 2B4 | Approximately 1930 feet downstream from the intersection with Military Parkway | +442 | +437 | City of Mesquite, Unincorporated Areas of Dallas County.
| Approximately 57 feet upstream of intersection with Kearney Street | +475 | +476
Stream 2B5 | Approximately 1650 feet upstream from intersection with Peachtree Road | +463 | +465 | City of Mesquite.
| Approximately 4130 feet upstream from intersection with Peachtree Road | +481 | +480
Stream 2B6 | Approximately 285 feet downstream from intersection with I-80 | +480 | +482 | City of Mesquite.
| Approximately 42 feet downstream from intersection with Baker Drive | +500 | +503
Stream 2B7 | Approximately 800 feet downstream from intersection with Gus Thomasson Road | +474 | +470 | City of Mesquite.
| Approximately 437 feet upstream from intersection with I-30 | +522 | +521
Stream 2B8 | Approximately 970 feet upstream from the intersection with I-635 | +470 | +472 | City of Mesquite.
| Approximately 326 feet downstream from intersection with I-80 | +495 | +493
Stream 2E2 | Approximately 1180 feet downstream from intersection with Liberty Grove Road | +442 | +445 | City of Rowlett, City of Dallas.
| Approximately 3730 feet downstream from intersection with Liberty Grove Road | +479 | +480
Stream 4C3 | Approximately 40 feet upstream from intersection with Kleberg Road | +402 | +400 | City of Dallas.
| Approximately 1447 feet upstream from intersection with Woody Road | +445 | +443
Stream 6A1 | Approximately 1054 feet downstream from intersection with Euclid Avenue | +509 | +505 | Town of Highland Park.
| Approximately 95 feet downstream from intersection with Beverly Drive | +520 | +518
Stream 6D4 | Approximately 190 feet from intersection with Scott Mill Road | +498 | +502 | City of Carrollton.
| Approximately 128 feet downstream of E. Jackson Road | +508 | +503
Stream 6D8 | Approximately 390 feet downstream from intersection with Ballantrae Road | +560 | +562 | City of Carrollton.
| Approximately 780 feet downstream from intersection with Tarplex Road | +612 | +614
Stream JC1 | Approximately 85 feet upstream from the intersection with Northwest 19th Street | +462 | +459 | City of Grand Prairie.
| Approximately 940 feet upstream from intersection with I-30 | +499 | +501
West Fork of South Mesquite Creek | Approximately 4020 feet downstream from the intersection with I-80 | +465 | +462 | City of Mesquite.
| Approximately 150 feet downstream from intersection with Town East Boulevard | +501 | +503
* National Geodetic Vertical Datum.
+ North American Vertical Datum.
# Depth in feet above ground.
ADDRESSES
City of Balch Springs
Maps are available for inspection at 3117 Hickory Tree Road, Balch Springs, TX 75980.
Send comments to William R. Blanton, Jr., Chief, Engineering Management Section, Mitigation Directorate, Federal Emergency Management Agency, 500 C Street, SW., Washington, DC 20472.
City of Carrollton
Maps are available for inspection at 1945 E. Jackson Road, Carrollton, TX 75006.
Send comments to William R. Blanton, Jr., Chief, Engineering Management Section, Mitigation Directorate, Federal Emergency Management Agency, 500 C Street, SW., Washington, DC 20472.
City of Cedar Hill
Maps are available for inspection at 502 Cedar Street, Cedar Hill, TX 75104.
Send comments to William R. Blanton, Jr., Chief, Engineering Management Section, Mitigation Directorate, Federal Emergency Management Agency, 500 C Street, SW., Washington, DC 20472.
City of Dallas
Maps are available for inspection at 320 E. Jefferson Blvd., Room 321, Dallas, TX 75203.
Send comments to William R. Blanton, Jr., Chief, Engineering Management Section, Mitigation Directorate, Federal Emergency Management Agency, 500 C Street, SW., Washington, DC 20472.
City of Desoto
Maps are available for inspection at 211 E. Pleasant Run Rd., Building A, Desoto, TX 75115.
Send comments to William R. Blanton, Jr., Chief, Engineering Management Section, Mitigation Directorate, Federal Emergency Management Agency, 500 C Street, SW., Washington, DC 20472.
City of Duncanville
Maps are available for inspection at 203 E. Wheatland Rd., Duncanville, TX 75116.
Send comments to William R. Blanton, Jr., Chief, Engineering Management Section, Mitigation Directorate, Federal Emergency Management Agency, 500 C Street, SW., Washington, DC 20472.
City of Garland
Maps are available for inspection at 800 Main St., Garland, TX 75040.
Send comments to William R. Blanton, Jr., Chief, Engineering Management Section, Mitigation Directorate, Federal Emergency Management Agency, 500 C Street, SW., Washington, DC 20472.
City of Glenn Heights
Maps are available for inspection at 1938 S. Hampton, Glenn Heights, TX 75154.
Send comments to William R. Blanton, Jr., Chief, Engineering Management Section, Mitigation Directorate, Federal Emergency Management Agency, 500 C Street, SW., Washington, DC 20472.
City of Grand Prairie
Maps are available for inspection at 206 W. Church St., Grand Prairie, TX 75051.
Send comments to William R. Blanton, Jr., Chief, Engineering Management Section, Mitigation Directorate, Federal Emergency Management Agency, 500 C Street, SW., Washington, DC 20472.
City of Mesquite
Maps are available for inspection at 1515 N. Galloway Ave., Mequite, TX 75185.
Send comments to William R. Blanton, Jr., Chief, Engineering Management Section, Mitigation Directorate, Federal Emergency Management Agency, 500 C Street, SW., Washington, DC 20472.
City of Richardson
Maps are available for inspection at 411 W. Arapaho Rd., Richardson, TX 75083.
Send comments to William R. Blanton, Jr., Chief, Engineering Management Section, Mitigation Directorate, Federal Emergency Management Agency, 500 C Street, SW., Washington, DC 20472.
City of Rowlett
Maps are available for inspection at 4000 Main St., Rowlett, TX 75088.
Send comments to William R. Blanton, Jr., Chief, Engineering Management Section, Mitigation Directorate, Federal Emergency Management Agency, 500 C Street, SW., Washington, DC 20472.
City of Wylie
Maps are available for inspection at 114 N. Ballard Ave., Wylie, TX 75098.
Send comments to William R. Blanton, Jr., Chief, Engineering Management Section, Mitigation Directorate, Federal Emergency Management Agency, 500 C Street, SW., Washington, DC 20472.
Town of Addison
Maps are available for inspection at 16801 Westgrove Drive, Addison, TX 75001.
Send comments to William R. Blanton, Jr., Chief, Engineering Management Section, Mitigation Directorate, Federal Emergency Management Agency, 500 C Street, SW., Washington, DC 20472.
Town of Highland Park
Maps are available for inspection at 4700 Drexel Dr., Highland Park, TX 75205.
Send comments to William R. Blanton, Jr., Chief, Engineering Management Section, Mitigation Directorate, Federal Emergency Management Agency, 500 C Street, SW., Washington, DC 20472.
Town of Sunnyvale
Maps are available for inspection at 537 Long Creek Rd., Sunnyvale, TX 75182.
Send comments to William R. Blanton, Jr., Chief, Engineering Management Section, Mitigation Directorate, Federal Emergency Management Agency, 500 C Street, SW., Washington, DC 20472.
Unincorporated Areas of Dallas County
Maps are available for inspection at 509 Main St., Dallas, TX 75202.
Send comments to William R. Blanton, Jr., Chief, Engineering Management Section, Mitigation Directorate, Federal Emergency Management Agency, 500 C Street, SW., Washington, DC 20472.
Denton County, Texas, and Incorporated Areas
Cooper Creek | Approximately 2 feet upstream of intersection with N. Mayhill Road | +572 | +570 | City of Denton, Unincorporated Areas of Denton County.
| Approximately 5 feet downstream of intersection with N. Locust Street | +656 | +652
Dudley Branch | Approximately 2455 feet downstream of intersection with Indian Road | +452 | +449 | City of Carrollton, Town of Hebron.
| Approximately 2600 feet downstream from intersection with Standridge Drive | +500 | +501
Fletcher Branch | Approximately ten feet downstream of intersection with Hickory Creek Road | +554 | +555 | City of Denton, Unincorporated Areas of Denton County.
| Approximately 360 feet upstream of intersection with El Paso Street | +610 | +612
Furneaux Creek | Approximately 1320 feet upstream from the intersection with Old Denton Road | +470 | +464 | City of Carrollton, City of Plano, Town of Hebron.
| Approximately 115 feet from intersection with E. Hebron Parkway | +550 | +549
Indian Creek | Approximately 180 ft from the intersection at Hebron Parkway | +461 | +463 | City of Carrollton, City of Lewisville, City of Plano, City of The Colony, Town of Hebron, Unincorporated Areas of Denton County.
| Approximately 2940 feet from the intersection with the E. Old Denton Road bridge | +476 | +477
Stream 6E1 | Approximately 980 feet downstream of intersection with N. Josey Lane | +487 | +485 | City of Carrollton, City of Dallas.
| Approximately 1095 feet upstream from intersection with E. Frankford Road | +523 | +524
Timber Creek | Approximately 4,925 feet downstream of intersection with Hebron Parkway | +453 | +450 | City of Lewisville, Town of Double Oak, Town of Flower Mound.
| Approximately 295 feet upstream from the intersection with S. Woodland Trail | +628 | +626
* National Geodetic Vertical Datum.
+ North American Vertical Datum.
# Depth in feet above ground.
ADDRESSES
City of Carrollton
Maps are available for inspection at 1945 E. Jackson Rd., Carrollton, TX 75006.
Send comments to William R. Blanton, Jr., Chief, Engineering Management Section, Mitigation Directorate, Federal Emergency Management Agency, 500 C Street, SW., Washington, DC 20472.
City of Dallas
Maps are available for inspection at 320 E. Jefferson Blvd., Room 321, Dallas, TX 75203.
Send comments to William R. Blanton, Jr., Chief, Engineering Management Section, Mitigation Directorate, Federal Emergency Management Agency, 500 C Street, SW., Washington, DC 20472.
City of Denton
Maps are available for inspection at 215 E. McKinney, Denton, TX 76201.
Send comments to William R. Blanton, Jr., Chief, Engineering Management Section, Mitigation Directorate, Federal Emergency Management Agency, 500 C Street, SW., Washington, DC 20472.
City of Lewisville
Maps are available for inspection at 1197 W. Main St., Lewisville, TX 75067.
Send comments to William R. Blanton, Jr., Chief, Engineering Management Section, Mitigation Directorate, Federal Emergency Management Agency, 500 C Street, SW., Washington, DC 20472.
City of Plano
Maps are available for inspection at 1520 Avenue K, Plano, TX 75086.
Send comments to William R. Blanton, Jr., Chief, Engineering Management Section, Mitigation Directorate, Federal Emergency Management Agency, 500 C Street, SW., Washington, DC 20472.
City of The Colony
Maps are available for inspection at 5151 N. Colony Blvd., The Colony, TX 75056.
Send comments to William R. Blanton, Jr., Chief, Engineering Management Section, Mitigation Directorate, Federal Emergency Management Agency, 500 C Street, SW., Washington, DC 20472.
Town of Double Oak
Maps are available for inspection at 1100 Cross Timber Dr., Double Oak, TX 75067.
Send comments to William R. Blanton, Jr., Chief, Engineering Management Section, Mitigation Directorate, Federal Emergency Management Agency, 500 C Street, SW., Washington, DC 20472.
Town of Flower Mound
Maps are available for inspection at 2121 Cross Timbers Rd, Flower Mound, TX 75028.
Send comments to William R. Blanton, Jr., Chief, Engineering Management Section, Mitigation Directorate, Federal Emergency Management Agency, 500 C Street, SW., Washington, DC 20472.
Town of Hebron
Maps are available for inspection at 4624 Charles St., Carrollton, TX 75010.
Send comments to William R. Blanton, Jr., Chief, Engineering Management Section, Mitigation Directorate, Federal Emergency Management Agency, 500 C Street, SW., Washington, DC 20472.
Unincorporated Areas of Denton County
Maps are available for inspection at 306 N. Loop 288, Suite 115, Denton, TX 76201.
Send comments to William R. Blanton, Jr., Chief, Engineering Management Section, Mitigation Directorate, Federal Emergency Management Agency, 500 C Street, SW., Washington, DC 20472.

(Catalog of Federal Domestic Assistance No. 97.022, “Flood Insurance.”)

Dated: October 9, 2007.
David I. Maurstad,
Federal Insurance Administrator of the National Flood Insurance Program, Department of Homeland Security, Federal Emergency Management Agency.

[FR Doc. E7-20382 Filed 10-15-07; 8:45 am]

BILLING CODE 9110-12-P